DEPARTMENT OF EDUCATION

Notice of Proposed Information Collection Requests

AGENCY: Department of Education.

SUMMARY: The Acting Director, Information Collection Clearance Division, Regulatory Information Management Services, Office of Management, invites comments on the proposed information collection requests as required by the Paperwork Reduction Act of 1995.

DATES: Interested persons are invited to submit comments on or before June 4, 2010.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: March 30, 2010.
Stephanie Valentine,
Acting Director, Information Collection Clearance Division, Regulatory Information Management Services, Office of Management.

Office of Planning, Evaluation and Policy Development

Type of Review: Revision.

Title: Evaluation of the Teacher Incentive Fund (TIF) Program.

Frequency: On Occasion.

Affected Public: State, Local, or Tribal Gov't, SEAs or LEAs

Reporting and Recordkeeping Hour Burden:

Responses: 2,841.

Burden Hours: 2,044.

Abstract: In 2006, the U.S. Department of Education launched the Teacher Incentive Fund (TIF), which awards competitive grants to develop and implement performance-based compensation systems in high-need schools. The purpose of the evaluation is to describe the implementation of the program and its relationship to any increases in recruitment and retention of effective teachers and principals. If feasible, this evaluation will also seek to analyze TIF's relationship to increasing student achievement.

This evaluation of the TIF program includes an implementation study of the Cohort 1 and 2 TIF grantees. The implementation study will describe the central features of the local TIF performance-pay programs, the implementation of the programs, and similarities and differences in performance pay programs. Data collection activities will be iterative, beginning with telephone interviews of key stakeholders in all the TIF sites (completed winter 2010), followed by two rounds of more in-depth case studies in a sample of sites. Representative surveys of principals and teachers will also be conducted to represent the full range of program knowledge and experiences in each grantee program. The implementation study may be used in conjunction with outcomes data (if the Department exercises optional outcomes tasks) to help explain the relationship between program characteristics and system supports and program outcomes.

Requests for copies of the proposed information collection request may be accessed from http://edicsweb.ed.gov, by selecting the “Browse Pending Collections” link and by clicking on link number 4249. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-7638 Filed 4-2-10; 8:45 am]

BILLING CODE 4000-01-P